DEPARTMENT OF COMMERCE

Bureau of Industry and Security

[Docket No. 240816-0219]

XRIN: 0694-XC107

Request for Public Comments on the Potential Market Impact of the Proposed Fiscal Year 2026 Annual Materials Plan From the National Defense Stockpile Market Impact Committee

AGENCY: Bureau of Industry and Security, Department of Commerce.

ACTION: Notice of inquiry; request for comments.

SUMMARY: The National Defense Stockpile Market Impact Committee, co-chaired by the Departments of Commerce and State, is seeking public comments on the potential market impact of proposed changes to the Fiscal Year (FY) 2026 Annual Materials Plan (AMP). Potential changes to the AMP are decided by the National Defense Stockpile Market Impact Committee, which advises the Defense Logistics Agency in its role as the National Defense Stockpile Manager on the projected domestic and foreign economic effects of all acquisitions, conversions, and disposals involving the National Defense Stockpile.

DATES: To be considered, written comments must be received by September 30, 2024.

ADDRESSES: Comments on this rule may be submitted to the Federal rulemaking portal (www.regulations.gov). The regulations.gov ID for this rule is: BIS-2024-0030. Please refer to XRIN 0694-XC107 in all comments.

All filers using the portal should use the name of the person or entity submitting the comments as the name of their files, in accordance with the instructions below. Anyone submitting business confidential information should clearly identify the business confidential portion at the time of submission, file a statement justifying nondisclosure and referring to the specific legal authority claimed, and provide a non-confidential version of the submission.

For comments submitted electronically containing business confidential information, the file name of the business confidential version should begin with the characters “BC.” Any page containing business confidential information must be clearly marked “BUSINESS CONFIDENTIAL” on the top of that page. The corresponding non-confidential version of those comments must be clearly marked “PUBLIC.” The file name of the non-confidential version should begin with the character “P.” Any submissions with file names that do not begin with either a “BC” or a “P” will be assumed to be public and will be made publicly available through https://www.regulations.gov. Commenters submitting business confidential information are encouraged to scan a hard copy of the non-confidential version to create an image of the file, rather than submitting a digital copy with redactions applied, to avoid inadvertent redaction errors which could enable the public to read business confidential information.

FOR FURTHER INFORMATION CONTACT: Tosca Fischer, Office of Strategic Industries and Economic Security, Bureau of Industry and Security, U.S. Department of Commerce, telephone: (202) 482-3528, (Attn: Tosca Fischer), email: MIC@bis.doc.gov.

SUPPLEMENTARY INFORMATION:

Background

The federal government operates several different stockpiles that are managed by different federal agencies depending on the stockpile's purpose. For example, the Department of Health and Human Services (HHS) manages the Strategic National Stockpile, which contains medicines and medical equipment. HHS' stockpile may supplement medical countermeasures needed by states, tribal nations, territories, and the largest metropolitan areas during public health emergencies. Another example is the Department of Energy's operation of the Strategic Petroleum Reserve for use in the event the international oil market is severely disrupted.

The Department of Defense (DOD) maintains a stockpile of critical and strategic materials known as the National Defense Stockpile (NDS). During a war or national emergency, this stockpile is meant to provide strategic and critical materials to support national defense and essential civilian requirements. The stockpile currently contains 61 materials (primarily minerals) that are deemed strategic and critical to national security.¹

¹ Defense Logistics Agency, “Strategic Materials: Office,” U.S. Department of Defense, https://www.dla.mil/Strategic-Materials/About.

Under the authority of the Strategic and Critical Materials Stock Piling Revision Act of 1979, as amended (the Stock Piling Act) (50 U.S.C. 98 et seq.), the Department of Defense's Defense Logistics Agency (DLA) is the National Defense Stockpile Manager. The NDS is a strategic stockpile, not an economic stockpile. It is not intended to influence prices in the market or insulate private industry from supply shocks. Rather, its purpose is to ensure the defense and essential civilian industrial base has consistent access to the materiel it needs—and the private industries making products have the raw materials they need—during a war or national emergency.

Congress authorizes the sale of excess materials from the stockpile, and proceeds from the sales are transferred to the National Defense Stockpile Transaction Fund. The NDS does not receive annual appropriations in the defense budget for operational expenses. Instead, the stockpile has a revolving fund in what the U.S. Treasury termed the National Defense Stockpile Transaction Fund.² Whenever materials in the stockpile are sold, the proceeds from that sale are added to that fund. The DLA then uses that money to pay for the operational expenses accompanying the maintenance of the stockpile. Information about stockpile disposals—what was sold and at what value it was sold—is publicly available in monthly announcements published by the DLA.³

² Strategic and Critical Materials Stock Piling Revision Act of 1979, Public Law 96-41, p. 5.

³ https://www.dla.mil/Strategic-Materials/Announcements/.

Section 3314 of the National Defense Authorization Act for Fiscal Year 1993 (FY 1993 NDAA) (50 U.S.C. 98h-1) formally established a Market Impact Committee (the Committee) to “advise the National Defense Stockpile Manager on the projected domestic and foreign economic effects of all acquisitions and disposals of materials from the stockpile . . .” The Committee must also balance market impact concerns with the statutory requirement to protect the U.S. Government against avoidable loss. See 50 U.S.C. 98e(b)(2).

The Committee is comprised of representatives from the Departments of Commerce, State, Agriculture, Defense, Energy, Interior, the Treasury, and Homeland Security. The FY 1993 NDAA directs the Committee to consult with industry representatives that produce, process, or consume the types of materials stored in the stockpile as the National Defense Stockpile Manager. The DLA must produce an Annual Materials Plan (AMP) proposing the maximum quantity of each listed material that may be acquired, disposed of, upgraded, converted, recovered, or sold by the DLA in a particular fiscal year. With this notice, Commerce, on behalf of the DLA, lists the quantities and types of activity—potential disposals, potential acquisitions, potential conversions (upgrade, rotation, reprocessing, etc.) or potential recovery (from government sources) —associated with each material in its proposed FY 2026 AMP.

The quantities listed in Attachment 1 are not acquisition, disposal, upgrade, conversion, recovery, reprocessing, or sales target quantities, but rather a statement of the proposed maximum quantity of each listed material that may be acquired, disposed of, upgraded, converted, recovered, or sold in a particular fiscal year by the DLA. The quantity of each material that will actually be acquired or offered for sale will depend on the market for the material at the time of the acquisition or offering, as well as on the quantity of each material approved by Congress for acquisition, disposal, conversion, or recovery.

Additional Instructions for Comments

The Committee is interested in any supporting data and documentation on the potential market impact of the quantities associated with the proposed FY 2026 AMP.

While regulations.gov allows users to provide comments by filling in a “Type Comment” field or by attaching a document using an “Upload File” field, BIS prefers comments be provided in an attached document—preferably in Microsoft Word (.doc) or Adobe Acrobat (.pdf). If the submission is in an application format other than Microsoft Word or Adobe Acrobat, please indicate the name of the application in the “Type Comment” field. Please do not attach separate cover letters to electronic submissions; rather, include any information that might appear in a cover letter within the comments. Please include any exhibits, annexes, or other attachments in the same file, so the submission consists of one instead of multiple files. All filers should name their files using the name of the person or entity submitting the comments.

Submitted materials properly marked as business confidential information with a valid statutory basis for confidentiality, and which is accepted as such by BIS, will not be publicly disclosed. Commenters submitting business confidential information should clearly identify the business confidential portion at the time of submission, include a statement justifying nondisclosure and referring to the specific legal authority claimed with the submission, and provide a non-confidential version of the submission which will be placed in the public file on https://www.regulations.gov. For comments containing business confidential information, the file name of the business confidential version should begin with the characters “BC”. Any page containing business confidential information must be clearly marked “BUSINESS CONFIDENTIAL” at the top of that page. The file name of the non-confidential version should begin with the character “P”. The non-confidential version must be clearly marked “PUBLIC” at the top of the first page. The “BC” and “P” should be followed by the name of the person or entity submitting the comments. Commenters submitting business confidential information are encouraged to scan a hard copy of the non-confidential version to create an image of the file, rather than submitting a digital copy with redactions applied, to avoid inadvertent redaction errors which could enable the public to read business confidential information.

Public comments will be available on regulations.gov, and the BIS Freedom of Information Act (FOIA) website at https://efoia.bis.doc.gov/. This office does not maintain a separate public inspection facility. If you have technical difficulties accessing this website, please call BIS's Office of Administration at (202) 482-1900 for assistance.

Attachment 1

Proposed Fiscal Year 2026 Annual Materials Plan
Material | Unit | Quantity | Footnote
Potenial Disposals
Beryllium Metal | ST | 8 |
Carbon Fibers | Lbs | 92,000 | (¹)
Chromium, Ferro | ST | 24,000 |
Chromium, Metal | ST | 500 |
Germanium | kg | 5,000 |
Manganese, Ferro | ST | 20,000 |
Manganese, Metallurgical Grade | SDT | 320,300 | (¹)
Aerospace Alloys | Lbs | 1,500,000 |
Platinum | Tr Oz | 8,380 | (¹)
Iridium | Tr Oz | 489 | (¹)
Quartz Crystals | Lbs | 15,712 | (¹)
Tantalum | Lbs | 190 | (¹)
Tin | MT | 640 |
Titanium Based Alloys | Lbs | 300,000 |
Tungsten Ores & Concentrates | Lbs W | 1,100,000 |
Zinc | ST | 2,500 |
Potenial Acquisitions
Aluminum (High Purity) | MT | 1,700 |
Aluminum Alloys | MT | 1,500 |
Antimony | MT | 700 |
Cadmium Zinc Tellurium | CM ² | 2,800 |
Electrolytic Manganese Metal | MT | 5,000 |
Energetics | Lbs | 20,000,000 |
Ferroniobium | Lbs Nb | 300,000 |
Grain Oriented Electric Steel | MT | 3,200 |
Iso-Molded Graphite | MT | 1,700 |
Lanthanum | MT | 1,100 |
Magnesium | MT | 3,500 |
Neodymium-Praseodymium Oxide | MT | 300 |
NdFeB Magnet Block | MT | 450 |
Samarium-Cobalt Alloy | MT | 60 |
Tantalum | Lbs Ta | 64,500 |
Tire Cord Steel | MT | 130 |
Titanium | MT | 13,608 |
Tungsten | Lbs W | 587,000 |
Zirconium-Hafnium | MT | 2,300 |
Potential Conversions (Upgrade, rotation, reprocessing, etc.)
Aerospace Alloys | Lbs | 50,000 |
Antimony | Lbs | 198,000 |
Beryllium Metal | ST | 8 |
Boron Carbide | MT | 600 |
Cadmium Zinc Tellurium | CM ² | 1,000 |
Carbon Fibers | Lbs | 5,000 |
Europium | MT | 35 |
Germanium | kg | 5,000 |
Iridium Catalyst | Lbs | 200 |
Iso-Molded Graphite | MT | 1,700 |
Lithium Ion Materials | MT | 50 |
Rare Earths Elements | MT | 12 |
Silicon Carbide Fibers | Lbs | 875 |
SEG Concentrate | MT | 13 |
Triamino Trinitrobenzene (TATB) | Lbs | 48,000 |
Tungsten-Rhenium | kg | 5,000 |
Potential Recovery from Government sources
Aerospace Alloys | Lbs | 1,500,000 |
Battery Materials | MT | 1,500 |
Boron Carbide | MT | 300 |
Cobalt | MT | 500 |
E-Waste | MT | 100 | (²)
Germanium | kg | 5,000 |
Iridium Catalyst | Lbs | 200 |
Magnesium Metal | MT | 25 |
Rare Earths | Lbs | 51,000 |
Tantalum | MT | 10 |
Yttrium Aluminum Garnet Rods | kg | 250 |
Footnote Key:
¹ Actual quantity will be limited to remaining excess inventory.
² Strategic and Critical Materials collected from E-Waste (Strategic Materials collected from electronics waste).

Thea D. Rozman Kendler,
Assistant Secretary for Export Administration.

[FR Doc. 2024-19422 Filed 8-28-24; 8:45 am]

BILLING CODE 3510-33-P